DEPARTMENT OF THE INTERIOR

National Park Service

Notice of Inventory Completion for Native American Human Remains and Associated Funerary Objects in the Possession of Mendocino National Forest, USDA-Forest Service, Willows, CA

AGENCY: National Park Service.

ACTION: Notice.

Notice is hereby given in accordance with provisions of the Native American Graves Protection and Repatriation Act (NAGPRA), 43 CFR 10.9, of the completion of an inventory of human remains and associated funerary objects in the possession of Mendocino National Forest, USDA-Forest Service, Willows, CA

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by Mendocino National Forest professional staff in consultation with representatives of Berry Creek Rancheria of Maidu Indians of California; Enterprise Rancheria of Maidu Indians of California; Mechoopda Indian Tribe of Chico Rancheria, California; Mooretown Rancheria of Maidu Indians of California; and Round Valley Indian Tribes of the Round Valley Reservation, California.

Between 1976 and 1977, human remains representing four individuals were excavated from site CA-BUT-296 in Butte County, CA by field crews from California State University, Chico. The university was contracted by the Mendocino National Forest in 1976 after accidentally discovering the remains during mechanical trenching for an irrigation pipeline at a tree nursery. No known individuals were identified. The 66 associated funerary objects include a stone bead, bear claws, bone awls or hairpins, a bone tube fragment, a perforated bone artifact fragment, a quartz crystal, and flaked stone artifacts.

Based on the condition of the remains and material culture found with the burials, these individuals have been identified as Native American. The remains were determined to date to the late prehistoric period. Ethnographic, historical, and geographic information establishes that the Konkow Maidu people were occupants of the region at the time of contact and European colonization. Oral history of the Maidu Indians also indicates they were in the region prior to contact and European colonization.

Based on the above-mentioned information, officials of the Mendocino National Forest, USDA-Forest Service have determined that, pursuant to 43 CFR 10.2 (d)(1), the human remains listed above represent the physical remains of four individuals of Native American ancestry. Officials of the Mendocino National Forest, USDA-Forest Service also have determined that, pursuant to 43 CFR 10.2 (d)(2), the 66 objects listed above are reasonably believed to have been placed with or near individual human remains at the time of death or later as part of the death rite or ceremony. Lastly, officials of the Mendocino National Forest, USDA-Forest Service have determined that, pursuant to 43 CFR 10.2 (e), there is a relationship of shared group identity that can be reasonably traced between these Native American human remains and associated funerary objects and the Berry Creek Rancheria of Maidu Indians of California; Enterprise Rancheria of Maidu Indians of California; Mechoopda Indian Tribe of Chico Rancheria, California; Mooretown Rancheria of Maidu Indians of California; and Round Valley Indian Tribe of the Round Valley Reservation, California.

This notice has been sent to officials of the Berry Creek Rancheria of Maidu Indians of California; Enterprise Rancheria of Maidu Indians of California; Mechoopda Indian Tribe of Chico Rancheria, California; Mooretown Rancheria of Maidu Indians of California; and Round Valley Indian Tribe of the Round Valley Reservation, California. Representatives of any other Indian tribe that believes itself to be culturally affiliated with these human remains and associated funerary objects should contact James D. Fenwood, Forest Supervisor, Mendocino National Forest, 825 North Humboldt Avenue, Willows, CA, telephone (530) 934-3316, before November 13, 2000. Repatriation of the human remains and associated funerary objects to the Mechoopda Indian Tribe of Chico Rancheria, California may begin after that date if no additional claimants come forward.

Dated: October 5, 2000.
John Robbins,
Assistant Director, Cultural Resources Stewardship and Partnerships.

[FR Doc. 00-26346 Filed 10-12-00; 8:45 am]

BILLING CODE 4310-70-F